ENVIRONMENTAL PROTECTION AGENCY

40 CFR Parts 52 and 81

[EPA-R05-OAR-2011-0017; EPA-R05-OAR-2011-0106; FRL-9499-7]

Approval and Promulgation of Air Quality Implementation Plans; Ohio and Indiana; Redesignation of the Ohio and Indiana Portions Cincinnati-Hamilton Area to Attainment of the 1997 Annual Standard for Fine Particulate Matter

AGENCY: Environmental Protection Agency (EPA).

ACTION: Withdrawal of direct final rule.

SUMMARY: Due to the receipt of an adverse comment, EPA is withdrawing the October 19, 2011 (76 FR 64825), direct final rule approving Ohio's and Indiana's requests to redesignate their respective portions of the Cincinnati-Hamilton nonattainment area (for Ohio: Butler, Clermont, Hamilton, and Warren Counties, Ohio; for Indiana: a portion of Dearborn County) to attainment for the 1997 annual National Ambient Air Quality Standard (NAAQS or standard) for fine particulate matter (PM2.5). In the direct final rule, EPA stated that if adverse comments were received by November 18, 2011, the rule would be withdrawn and not take effect. On October 19, 2011, EPA received a comment. EPA interprets this comment as adverse and, therefore, EPA is withdrawing the direct final rule. EPA will address the comment in a subsequent final action based upon the proposed rulemaking action, also published on October 19, 2011 (76 FR 64880). EPA will not institute a second comment period on this action.

DATES: The direct final rule published at 76 FR 64825 on October 19, 2011, is withdrawn as of December 6, 2011.

FOR FURTHER INFORMATION CONTACT: Carolyn Persoon, Environmental Engineer, Control Strategies Section, Air Programs Branch (AR-18J), Environmental Protection Agency, Region 5, 77 West Jackson Boulevard, Chicago, Illinois 60604, (312) 353-8290, persoon.carolyn@epa.gov.

List of Subjects in 40 CFR Part 52

Environmental protection, Air pollution control, Incorporation by reference, Intergovernmental relations, Particulate matter.

Authority: 42 U.S.C. 7401 et seq.

Dated: November 23, 2011.
Susan Hedman,
Regional Administrator, Region 5.

PART 52—[AMENDED]

Accordingly, the amendments to 40 CFR 52.776 and 40 CFR 52.1880 published in the Federal Register on October 19, 2011 (76 FR 64825) on page 64837 are withdrawn as of December 6, 2011.

PART 81—[AMENDED]

Accordingly, the amendments to 40 CFR 81.315 and 40 CFR 81.336 published in the Federal Register on October 19, 2011 (76 FR 64825) on pages 64837-64838 are withdrawn as of December 6, 2011.

[FR Doc. 2011-31136 Filed 12-5-11; 8:45 am]

BILLING CODE 6560-50-P